DEPARTMENT OF THE INTERIOR

Bureau of Land Management

[NMNM 46830 and NMNM 46837]

Public Land Order No. 7709; Revocation of Two Secretarial Orders Dated January 30, 1907 and December 17, 1907; New Mexico

AGENCY: Bureau of Land Management, Interior.

ACTION: Public Land Order.

SUMMARY: This order revokes two Secretarial Orders in their entireties, as they affect approximately 278 acres of National Forest System lands withdrawn for use by the Forest Service for a tree nursery and an administrative site. This order opens 120 acres to such forms of disposition as may by law be made of National Forest System lands and to mining. The remaining lands are located within an overlapping withdrawal.

DATES: Effective Date: July 7, 2008.

FOR FURTHER INFORMATION CONTACT: Gilda Fitzpatrick, BLM New Mexico State Office, 1474 Rodeo Road, Santa Fe, New Mexico 87502, 505-438-7597.

SUPPLEMENTARY INFORMATION: The Forest Service has determined that the withdrawals are no longer needed and has requested the revocation. The lands withdrawn by the Secretarial Order dated January 30, 1907 are located within an overlapping military withdrawal in connection with Fort Bayard so the revocation for those lands is considered a record-clearing action only.

Order

By virtue of the authority vested in the Secretary of the Interior by Section 204 of the Federal Land Policy and Management Act of 1976, 43 U.S.C. 1714 (2000), it is ordered as follows:

1. The Secretarial Order dated January 30, 1907, which withdrew lands within the Gila National Forest and reserved them for use of the Forest Service for nursery purposes, is hereby revoked in its entirety as it affects the following described lands:

T. 17 S., R. 13 W.,

Sec. 11, lot 1 and E½NE¼;

Sec. 12, lots 3 and 4.

The area described contains 158 acres in Grant County.

2. The Secretarial Order dated December 17, 1907, which withdrew lands within the Gila National Forest and reserved them for use by the Forest Service as an administrative site, is hereby revoked in its entirety as it affects the following described lands:

T. 5 S., R. 17 W.,

Sec. 28, E½NW¼ and NW¼SW¼.

The area described contains 120 acres in Catron County.

3. At 10 a.m. on July 7, 2008, the lands described in Paragraph 2 of this order shall be opened to such forms of disposition as may by law be made of National Forest System lands, including location and entry under the United States mining laws, subject to valid existing rights, the provisions of existing withdrawals, other segregations of record, and the requirements of applicable law. Appropriation of lands described in this order under the general mining laws prior to the date and time of restoration is unauthorized. Any such attempted appropriation, including attempted adverse possession under 30 U.S.C. 38 (2000), shall vest no rights against the United States. Acts required to establish a location and to initiate a right of possession are governed by State law where not in conflict with Federal law. The Bureau of Land Management will not intervene in disputes between rival locators over possessory rights since Congress has provided for such determinations in local courts.

Dated: May 15, 2008.
C. Stephen Allred,
Assistant Secretary—Land and Minerals Management.

[FR Doc. E8-12472 Filed 6-3-08; 8:45 am]

BILLING CODE 3410-11-P